DEPARTMENT OF HEALTH AND HUMAN SERVICES

Food and Drug Administration

21 CFR Part 1

[Docket No. 2002N-0278]

Prior Notice of Imported Food Under the Public Health Security and Bioterrorism Preparedness and Response Act of 2002; Correction

AGENCY: Food and Drug Administration, HHS.

ACTION: Interim final rule; correction.

SUMMARY: The Food and Drug Administration (FDA) is correcting an interim final rule that appeared in the Federal Register of October 10, 2003 (68 FR 58974; corrected February 2, 2004 (69 FR 4851). The correction document (69 FR 4851) was published with typographical errors in a Web site address. This document corrects those errors.

DATES: Effective February 24, 2004.

FOR FURTHER INFORMATION CONTACT: Deborah Ralston, Office of Regulatory Affairs, Office of Regional Operations, Food and Drug Administration, 5600 Fishers Lane, Rockville, MD 20857, 301-443-6230.

SUPPLEMENTARY INFORMATION: In FR Doc. 04-1592, appearing on page 4851 in the Federal Register of Monday, February 2, 2004, in the second column, in the fifth numbered correction, the following correction is made:

1. On page 59072, in the second column, in § 1.280(d), in the first sentence, remove the phrase “http://www.fda.gov” and replace it with the phrase “http://www.cfsan.fda.gov/~furls/fisstat.html” and, in the third sentence, remove the phrase “is listed at http://www.fda.gov—see Prior Notice” and replace it with the phrase “will be listed at http://www.access.fda.gov or http://www.cfsan.fda.gov/~furls/fisstat.html, whichever FDA determines is available”.

Dated: February 15, 2004.
Jeffrey Shuren,
Assistant Commissioner for Policy.

[FR Doc. 04-3941 Filed 2-23-04; 8:45 am]

BILLING CODE 4160-01-S